DEPARTMENT OF COMMERCE

National Oceanic and Atmospheric Administration

RIN 0648-XD796

Schedules for Atlantic Shark Identification Workshops and Protected Species Safe Handling, Release, and Identification Workshops; Correction

AGENCY: National Marine Fisheries Service (NMFS), National Oceanic and Atmospheric Administration (NOAA), Commerce.

ACTION: Notice of public workshops; correction.

SUMMARY: NMFS cancelled the Protected Species Safe Handling, Release, and Identification workshop originally scheduled for April 28, 2015, in Kenner, LA. The workshop instructors were not able to travel to the location due to intermittent power outages at the New Orleans airport. This workshop was announced in the Federal Register on March 6, 2015. NMFS has rescheduled the workshop for June 10, 2015, to be held at the same time and location, 9 a.m. to 5 p.m., Hilton Inn, 901 Airline Drive, Kenner, LA 70062.

DATES: The Protected Species Safe Handling, Release, and Identification workshop originally scheduled for April 28, 2015, in Kenner, LA, has been rescheduled to June 10, 2015. See SUPPLEMENTARY INFORMATION for further details.

ADDRESSES: The location of the rescheduled workshop has not changed. It will be held in Kenner, LA. See SUPPLEMENTARY INFORMATION for further details.

FOR FURTHER INFORMATION CONTACT: Rick Pearson by phone: (727) 824-5399, or by fax: (727) 824-5398.

SUPPLEMENTARY INFORMATION: The workshop schedules, registration information, and a list of frequently asked questions regarding these workshops are posted on the Internet at: http://www.nmfs.noaa.gov/sfa/hms/compliance/workshops/index.html.

Correction

In the Federal Register of March 6, 2015, (80 FR 12152) in FR Doc. 2015-05174, on page 12153, in the third column, the date of the second Protected Species Safe Handling, Release, and Identification workshop listed under the heading “Workshop Dates, Times, and Locations” is corrected to read as follows:

2. June 10, 2015, 9 a.m.-5 p.m., Hilton Inn, 901 Airline Drive, Kenner, LA 70062.

Authority: 16 U.S.C. 1801 et seq.

Dated: May 6, 2015.
Emily H. Menashes,
Acting Director, Office of Sustainable Fisheries, National Marine Fisheries Service.

[FR Doc. 2015-11467 Filed 5-12-15; 8:45 am]

BILLING CODE 3510-22-P